DEPARTMENT OF THE INTERIOR

National Park Service

[NPS-WASO-NRNHL-14755; PPWOCRADI0, PCU00RP14.R50000]

National Register of Historic Places; Notification of Pending Nominations and Related Actions

Nominations for the following properties being considered for listing or related actions in the National Register were received by the National Park Service before December 28, 2013. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by February 5, 2014. Before including your address, phone number, email address, or other personal identifying information in your comment, you should be aware that your entire comment—including your personal identifying information—may be made publicly available at any time. While you can ask us in your comment to withhold your personal identifying information from public review, we cannot guarantee that we will be able to do so.

Dated: December 3, 2013.
J. Paul Loether,
Chief, National Register of Historic Places/National Historic Landmarks Program.

COLORADO

Jefferson County

Conifer Junction Schoolhouse, 26951 Barkley Rd., Conifer, 13001167

GEORGIA

Emanuel County

Twin City Historic District, 6th, Railroad & 5th Aves., Maple & College Sts., Twin City, 13001168

Fulton County

Fulton County Almshouse, 215 W. Wieuca Rd. NW., Atlanta, 13001169

MINNESOTA

Ramsey County

Euclid View Flats, 234-238 Bates Ave., Saint Paul, 13001170

VIRGINIA

Loudoun County

Fair Oaks, 23718 New Mountain Rd., Aldie, 13001171

Old Welbourne Farm and Dulany Family Cemetery, 21398 Willisville Rd., Bluemont, 13001172

Richmond Independent City

Springhill Historic District, (Historic Residential Suburbs in the United States, 1830-1960 MPS) W. 19th, W. 20th, W. 21st & W. 22nd Sts., Riverside Dr., Stonewall Ave., Richmond (Independent City), 13001173

Rockbridge County

Haines Chapel and Cemetery, 2600 Tye River Tpk., Vesuvius, 13001174

Shenandoah County

Wilkins Farm, 989 Swover Creek Rd., Edinburg, 13001175

[FR Doc. 2014-00980 Filed 1-17-14; 8:45 am]

BILLING CODE 4312-51-P